NUCLEAR REGULATORY COMMISSION

[Docket No. 40-3453]

MOAB Mill Reclamation Trust

AGENCY: Nuclear Regulatory Commission.

ACTION: Notice of receipt of a request from Moab Mill Reclamation Trust to revise site-reclamation milestones in License No. SUA-917 for the Moab, Utah, facility and notice of opportunity for a hearing.

SUMMARY: Notice is hereby given that the U.S. Nuclear Regulatory Commission (NRC) has received, by letter dated March 31, 2000, a request from Moab Mill Reclamation Trust to amend License Condition (LC) 55 A and B of Source Material License SUA-917 for the Moab, Utah, facility. The license amendment request proposes to modify LC 55 A.(1) to change the completion date for placement of the windblown tailings on the pile to December 31, 2001; LC 55 A.(3) to change the completion date for placement of the final radon barrier on the pile to December 31, 2002; LC 55 B.(1) to change the completion date for placement of the erosion protection on the pile to June 30, 2003; and LC 55 B.(2) to change the completion date for ground-water corrective actions to July 31, 2008.

FOR FURTHER INFORMATION CONTACT: Myron Fliegel, Office of Nuclear Material Safety and Safeguards, Washington, DC 20555. Telephone (301) 415-6629.

SUPPLEMENTARY INFORMATION: The portion of LC 55 with the proposed change would read as follows:

A. To ensure timely compliance with target completion dates established in the Memorandum of Understanding with the U.S. Environmental Protection Agency (56 FR 55432, October 25, 1991), the Licensee shall complete reclamation to control radon emissions as expeditiously as practicable, considering technological feasibility, in accordance with the following schedule:

(1) Windblown tailings retrieval and placement on the pile—December 31, 2001.

(2) Placement of the interim cover—Complete.

(3) Placement of the final radon barrier designed and constructed to limit radon emissions to an average flux of no more than 20 pCi/m2/s above background—December 31, 2002.

B. Reclamation, to ensure required longevity of the covered tailings and ground-water protection, shall be completed as expeditiously as is reasonably achievable, in accordance with the following target dates for completion:

(1) Placement of erosion protection as part of reclamation to comply with Criterion 6 of Appendix A of 10 CFR Part 40—June 30, 2003.

(2) Projected completion of ground-water corrective actions to meet performance objectives specified in the ground-water corrective action plan—July 31, 2008.

Moab Mill Reclamation Trust's request to amend LC 55 of Source Material License SUA-917, which describes the proposed changes to the license condition and the reason for the request, is being made available for public inspection at the NRC's Public Document Room at 2120 L Street, NW (Lower Level), Washington, DC 20555.

The NRC hereby provides notice of an opportunity for a hearing on the license amendment under the provisions of 10 CFR Part 2, Subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

(1) By delivery to the Docketing and Service Branch of the Office of the Secretary at One White Flint North, 11555 Rockville Pike, Rockville, MD 20852; or

(2) By mail or telegram addressed to the Secretary, U.S. Nuclear Regulatory Commission, Washington, DC 20555, Attention: Docketing and Service Branch.

In accordance with 10 CFR 2.1205(f), each request for a hearing must also be served, by delivering it personally or by mail, to:

(1) The applicant, Moab Mill Reclamation Trust, c/o William B. Abington, PricewaterhouseCoopers LLP, 1201 Louisiana, Suite 2900, Houston, Texas 77002; and

(2) The NRC staff, by delivery to the Executive Director for Operations, One White Flint North, 11555 Rockville Pike, Rockville, MD 20852, or by mail addressed to the Executive Director for Operations, U.S. Nuclear Regulatory Commission, Washington, DC 20555.

In addition to meeting other applicable requirements of 10 CFR Part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to David L. Meyer, Chief, Rules Review and Directives Branch, Division of Freedom of Information and Publications Services, Office of Administration, U.S. Nuclear Regulatory Commission, Washington DC 20555.

Dated at Rockville, Maryland, this 10th day of April 2000.
For the Nuclear Regulatory Commission.
Thomas H. Essig,
Chief, Uranium Recovery and Low-Level Waste Branch, Division of Waste Management, Office of Nuclear Material Safety and Safeguards.

[FR Doc. 00-9466 Filed 4-14-00; 8:45 am]

BILLING CODE 7590-01-P